DEPARTMENT OF TRANSPORTATION

Surface Transportation Board

[STB Docket No. AB-406 (Sub-No. 14X)]

Central Kansas Railway, L.L.C.—Abandonment Exemption—in Sedgwick County, KS

On December 21, 2000, Central Kansas Railway, L.L.C. (CKR), filed with the Surface Transportation Board (Board) a petition under 49 U.S.C. 10502 for exemption from the provisions of 49 U.S.C. 10903-10905 to abandon a line of railroad extending between milepost 19.5 near Garden Plain, KS, and milepost 3.5 southeast of the grade crossing at McCormick Avenue in Wichita, KS, a distance of 16 miles in Sedgwick County, KS. The line traverses U.S. Postal Service Zip Codes 67050, 67201-67220, 67221, 67223, 67226, 67227, 67228, 67230, 67231, 67232, 67233, 67235, 67236, 67251, 67256, 67257, 67259, 26760, 67275, 67276, 67277, and 67278, and includes no stations.

In addition to an exemption from 49 U.S.C. 10903, petitioner seeks exemption from 49 U.S.C. 10904 (offer of financial assistance procedures) and 49 U.S.C. 10905 (public use conditions). In support, CKR contends that exemption from these provisions is necessary because the City of Wichita, the County of Sedgwick , and the State of Kansas have developed various plans for flood control, redesign of a highway interchange, development of a green way, and removal of crossings to enhance safety, all of which are dependent on abandonment of the line. These entities want to obtain the right-of-way after abandonment for the valid public purposes discussed above. Petitioner further asserts that there is no overriding public need here for continued rail service. These requests will be addressed in the final decision.

The line does not contain federally granted rights-of-way. Any documentation in the railroad's possession will be made available promptly to those requesting it.

The interest of railroad employees will be protected by the labor protective conditions imposed in Oregon Short Line R. Co.—Abandonment—Goshen, 360 I.C.C. 91 (1979).

By issuing this notice, the Board is instituting an exemption proceeding pursuant to 49 U.S.C. 10502(b). A final decision will be issued by April 10, 2001.

Any offer of financial assistance (OFA) under 49 CFR 1152.27(b)(2) will be due no later than 10 days after service of a decision granting the petition for exemption. Each offer must be accompanied by a $1,000 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than January 30, 2001. Each trail use request must be accompanied by a $150 filing fee. See 49 CFR 1002.2(f)(27).

All filings in response to this notice must refer to STB Docket No. AB-406 (Sub-No. 14X) and must be sent to: (1) Surface Transportation Board, Office of the Secretary, Case Control Unit, 1925 K Street, NW., Washington, DC 20423-0001, and (2) Karl Morell, Ball Janik LLP, 1455 F Street, NW., Suite 225, Washington, DC 20005. Replies to the CKR petition are due on or before January 30, 2001.

Persons seeking further information concerning abandonment procedures may contact the Board's Office of Public Services at (202) 565-1592 or refer to the full abandonment or discontinuance regulations at 49 CFR 1152. Questions concerning environmental issues may be directed to the Board's Section of Environmental Analysis (SEA) at (202) 565-1545 (TDD for the hearing impaired is available at 1-800-877-8339.)

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at http://WWW.STB.DOT.GOV.

Decided: January 4, 2001.
By the Board, David M. Konschnik. Director, Office of Proceedings.
Vernon A. Williams,
Secretary.

[FR Doc. 01-734 Filed 1-9-01; 8:45 am]

BILLING CODE 4915-00-P